DEPARTMENT OF THE INTERIOR

Bureau of Land Management

[WO-220-05-1020-JA-VEIS]

Notice of Availability of Draft Programmatic Environmental Impact Statement and Environmental Report for Vegetation Treatments on Public Lands Administered by the Bureau of Land Management in the Western United States, Including Alaska

AGENCY: Bureau of Land Management, Interior.

ACTION: Notice of availability for public review and comment.

SUMMARY: Pursuant to section 102(2)(C) of the National Environmental Policy Act of 1969 (NEPA), the BLM is making available for public review and comment a draft national programmatic EIS and environmental report on vegetation treatments involving the use of chemical herbicides and other methods on the public lands administered by BLM in 17 western states, including Alaska.

DATES: Written or e-mailed comments for the review of the EIS and environmental report may be submitted through January 9, 2006. BLM will hold public meetings to solicit written and oral comments on the proposed action during the 60-day public review period.

Dates and time locations for the public meetings are as follows:

Date & time | Locations | BLM contact
November 28, 2005: 6 p.m. Open House, 7 p.m. Public Meeting | BLM Office, 333 SW 1st Avenue, 3rd Floor Conference Room, Portland, Oregon 97204 | Michael Campbell, PH: (503) 808-6031.
November 29, 2005: 6 p.m. Open House, 7 p.m. Public Meeting | Clarion Hotel, 2600 Auburn Blvd., Sacramento, CA | Dianna Brink, PH: (916) 978-4645.
November 30, 2005: 6 p.m. Open House, 7 p.m. Public Meeting | Little America Hotel, 500 South Main Street, Salt Lake City, Utah 84101 | Laura J. Williams, PH: (801) 539-4027.
December 1, 2005: 6 p.m. Open House, 7 p.m. Public Meeting | Marriott Pyramid North, 5151 San Francisco Rd. NE, Albuquerque, NM | Bernie Chavez, PH: (505) 438-7668.
December 5, 2005: 6 p.m. Open House, 7 p.m. Public Meeting | Grand Vista Hotel, 2790 Crossroads Blvd., Grand Junction, CO | Melodie Lloyd, PH: (970) 244-3097.
December 6, 2005: 6 p.m. Open House, 7 p.m. Public Meeting | Holiday Inn—Airport Hotel, 3300 S. Vista, Boise, ID | Sharon Paris, PH: (208) 373-4028.
December 7, 2005: 6 p.m. Open House, 7 p.m. Public Meeting | BLM Office, 5001 Southgate Drive, Billings, MT | Theresa Hanley, PH: (406) 896-5068.
December 8, 2005: 6 p.m. Open House, 7 p.m. Public Meeting | Holiday Inn—Yellowstone, Room 204 West Fox Farm Road, Cheyenne, WY | Ken Henke, PH: (307) 775-6041.
December 13, 2005: 6 p.m. Open House, 7 p.m. Public Meeting | BLM Office, 4701 N Torrey Pines Dr., Las Vegas, NV | Kirsten Cannon, PH: (702) 515-5057.
December 13, 2005: 6 p.m. Open House, 7 p.m. Public Meeting | Courtyard by Marriott—Embassy Row, 1600 Rhode Island Avenue, NW., Washington DC | Sharon Wilson, PH: (202) 425-5130.

ADDRESSES: Written comments should be sent to: Project Manager, National Vegetation EIS, BLM Nevada State Office, P.O. Box 12000, Reno, NV 89520-0006. Comments may also be sent by e-mail to vegeis@nv.blm.gov. Individual respondents may request confidentiality. If you wish to withhold your name or street address from public review or from disclosure under the Freedom of Information Act, you must state this prominently at the beginning of your written comment. Such requests will be honored to the extent allowed by law. The BLM will not consider anonymous comments. All submissions from organizations and businesses, and from individuals identifying themselves as representatives or officials of organizations or businesses, will be available for public inspection in their entirety. The Draft EIS and associated documents will be available for review in either hard copy or on compact disks (CDs) at all BLM State, District, and Field Office public rooms. The entire document can also be reviewed or downloaded at the BLM National Web site http://www.blm.gov/.

SUPPLEMENTARY INFORMATION: This national, draft programmatic EIS will provide a comprehensive analysis of BLM's use of chemical herbicides in its various vegetation treatment programs related to hazardous fuels reduction, noxious weed and invasive terrestrial plant species management, resource rehabilitation following catastrophic fires and other disturbances. In addition, an accompanying environmental report will provide an assessment of the expected impacts of the use of herbicides, in addition to other vegetation treatment methods (fire, mechanical, manual, and biological) on up to approximately 5,030,000 acres of public lands per year. Together, these documents will:

• Consider reasonably foreseeable activities, particularly hazardous fuels reduction treatments, emergency stabilization and rehabilitation efforts, noxious weed, and invasive terrestrial plant species management.

• Address human health and ecological risk for proposed use of chemical herbicides on public lands.

• Provide a cumulative impact analysis of the use of chemical herbicides in conjunction with other treatment methods.

The EIS is neither a land-use plan nor a land-use plan amendment. The EIS and ER will provide a comprehensive programmatic NEPA document and environmental report to allow effective tiering and incorporation by reference of baseline cumulative impact assessment to be used for other new, revised or existing land use and activity level plans that involve vegetation modification or maintenance. This EIS does not affect the status of the herbicide court injunction in Oregon.

The analysis area includes only surface estate public lands administered by 11 BLM state offices: Alaska, Arizona, California, Colorado, Idaho, Montana (Dakotas), New Mexico (Oklahoma/Texas/Nebraska), Nevada, Oregon (Washington), Utah and Wyoming.

Ed Shepard,
Assistant Director, Renewable Resources and Planning.

[FR Doc. 05-22343 Filed 11-9-05; 8:45 am]

BILLING CODE 4310-84-P